NUCLEAR REGULATORY COMMISSION

[Docket No. 030-03766]

Environmental Assessment and Finding of No Significant Impact

AGENCY: U.S. Nuclear Regulatory Commission.

ACTION: Notice of Environmental Assessment and Finding of No Significant Impact related to license amendment of Byproduct Material License No. 06-00807-01, Schlumberger Technology Corporation, Ridgefield, Connecticut.

SUMMARY: The U.S. Nuclear Regulatory Commission (NRC) is considering the issuance of a license amendment to Byproduct Material License No. 06-00807-01 to authorize release a portion of its facility in Ridgefield, Connecticut, for unrestricted use and has prepared an Environmental Assessment in support of this action. Based upon the Environmental Assessment, the NRC has concluded that a Finding of No Significant Impact is appropriate, and, therefore, an Environmental Impact Statement is unnecessary.

FOR FURTHER INFORMATION CONTACT: Judy Joustra, Division of Nuclear Materials Safety, U.S. Nuclear Regulatory Commission, Region I, 475 Allendale Road, King of Prussia, Pennsylvania 19406; telephone (610) 337-5355 or e-mail jaj@nrc.gov.

SUPPLEMENTARY INFORMATION: The U. S. Nuclear Regulatory Commission is considering amending Byproduct Materials License No. 06-00807-01 and authorizing the release of a portion of the licensee's facilities in Ridgefield, Connecticut, for unrestricted use and has prepared an Environmental Assessment (EA) and a Finding of No Significant Impact (FONSI) in support of this action.

Summary

The U. S. Nuclear Regulatory Commission (NRC) reviewed the results of the decommissioning of the Schlumberger Technology Corporation (Schlumberger) facility in Ridgefield, Connecticut. Schlumberger was authorized by NRC from 1956 to 2003 to use radioactive materials for research and development purposes at the site. In 2000, Schlumberger ceased operations with licensed materials in a portion of its facility at the Ridgefield site, and on September 30, 2002 requested that NRC amend its license to release three areas for unrestricted use. Schlumberger contracted with Radiation Safety Associates, Inc. Hebron, Connecticut, who conducted surveys of the areas and determined that these areas meet the license termination criteria in Subpart E of 10 CFR Part 20. The NRC staff has evaluated Schlumberger's request and results of the surveys, and has developed an Environmental Assessment (EA) in accordance with the requirements of 10 CFR Part 51. Based on the staff evaluation, the conclusion of the EA is a Finding of No Significant Impact (FONSI) on human health and the environment for the proposed licensing action.

Introduction

Schlumberger requested release for unrestricted use areas of designated as Lab Z, and Lab Z Lower Level including the area identified as the Catacomb, which are attached to the main building on Old Quarry Road, Ridgefield, Connecticut. NRC License No. 06-00807-01, which was issued in 1956 and amended periodically since that time authorized activities at these areas. In Lab Z, Lab Z Lower Level including the Catacomb the licensee conducted research and development, and manufactured neutron generators tubes using curie amounts of tritium.

Licensed activities in Lab Z, and Lab Z Lower Level including the Catacomb ceased completely in November 2000, and the licensee requested an amendment to its license to release Lab Z, and Lab Z Lower Level including the Catacomb for unrestricted use in September 2002. Based on the licensee's historical knowledge of the site and the conditions of the facility, the licensee determined that only routine decontamination activities, in accordance with licensee radiation safety procedures, were required. A decommissioning plan was not required to be submitted to the NRC. The licensee's contractor surveyed the facilities, decontaminated or remediated areas as needed, and provided documentation that the facilities meet the license termination criteria specified in Subpart E of 10 CFR Part 20, and do not require additional decommissioning activities to be performed. The licensee subsequently requested that the facilities (Lab Z, and Lab Z Lower Level including the Catacomb) be released for unrestricted use.

The Proposed Action

The proposed action is to amend Byproduct Materials License No. 06-00807-01 and release Lab Z, and Lab Z Lower Level including the Catacomb of the facilities at Old Quarry Road, Ridgefield, Connecticut for unrestricted use. By letter dated September 30, 2002, Schlumberger provided survey results which demonstrate that the Ridgefield site is in compliance with the radiological criteria for license termination in Subpart E, 10 CFR Part 20, “Radiological Criteria for License Termination.”

Purpose and Need for the Proposed Action

The purpose of the proposed action is to amend Byproduct Materials License No. 06-00807-01 and release Lab Z, and Lab Z Lower Level including the Catacomb of the Schlumberger site in Ridgefield, Connecticut, for unrestricted use. NRC is fulfilling its responsibilities under the Atomic Energy Act to make a decision on a proposed license amendment of a license and release of facilities for unrestricted use that ensures protection of public health and safety and the environment.

Alternative to the Proposed Action

Since Lab Z, and Lab Z Lower Level including the Catacomb have already been surveyed and found acceptable for release for unrestricted use, the no-action alternative would be to keep the facilities on the license. This no-action alternative is not acceptable because the licensee does not plan to perform the previously authorized activities with licensed materials at those locations. Maintaining the areas under a license would reduce options for future use of the property.

The Affected Environment and Environmental Impacts

The NRC staff has reviewed the surveys performed by Schlumberger to demonstrate compliance with 10 CFR 20.1402 license termination criteria. Based on its review, the staff has determined that the affected environment and environmental impacts associated with the release for unrestricted use of the Schlumberger facilities are bounded by the impacts evaluated by the “Generic Environmental Impact Statement in Support of Rulemaking on Radiological Criteria for License Termination of NRC-Licensed Nuclear Facilities' (NUREG-1496).

Lab Z, and Lab Z Lower Level including the Catacomb are attached to the main building on Old Quarry Road, Ridgefield, Connecticut. Since Lab Z, and Lab Z Lower Level including the Catacomb have been surveyed and meet the NRC criteria for unrestricted use in 10 CFR Part 20, the environmental impacts resulting from the release of these areas for unrestricted use are expected to be insignificant. The NRC has found no other activities in the area that could result in cumulative impacts.

Agencies and Persons Consulted

This Environmental Assessment was prepared entirely by the NRC staff. The State Office of Historical Preservation, the State Fish and Wildlife Service, and the U. S. Fish and Wildlife Service were not contacted because release of Lab Z, and Lab Z Lower Level including the Catacomb at the Schlumberger facilities for unrestricted use does not modify the facilities. No other sources were used beyond those referenced in this EA.

NRC provided a draft of its Environmental Assessment to the State of Connecticut Department of Environmental Protection (CTDEP) for review. On January 31, 2003, CTDEP responded by letter and stated that it concurs with NRC's FONSI on human health and the environment.

Finding of No Significant Impact

The NRC staff concluded that the completed action complies with 10 CFR part 20. NRC has prepared this EA in support of the proposed license amendment to the license and release Lab Z, and Lab Z Lower Level including the Catacomb facilities for unrestricted use. On the basis of the EA, NRC has concluded that the environmental impacts from the proposed action are expected to be insignificant and has determined not to prepare an environmental impact statement for the proposed action.

List of Preparers

Judy Joustra, Senior Health Physicist, Division of Nuclear Materials Safety, Region 1.

List of References

1. 10 CFR Part 20, Subpart E.

2. NRC License No. 06-00807-01 inspection and licensing records.

3. Letter dated September 30, 2002, with enclosures, from Schlumberger-Doll Research for Schlumberger Technology Corporation. [ADAMS Accession No. ML022820310].

4. Letter dated December 19, 2002, from Schlumberger-Doll Research for Schlumberger Technology Corporation. [ADAMS Accession No. ML023530607].

In accordance with 10 CFR 2.790 of the NRC's “Rules of Practice,” the application for the license amendment and supporting documentation are available for inspection at NRC's Public Electronic Reading Room at http://www.nrc.gov/NRC/ADAMS/index.html.

Any questions with respect to this action should be referred to Judy Joustra, Nuclear Materials Safety Branch 2, Division of Nuclear Materials Safety, Region I, 475 Allendale Road, King of Prussia, Pennsylvania 19406, telephone (610) 337-5355, fax (610) 337-5269.

Dated at King of Prussia, Pennsylvania this 26th day of February, 2003.
For the Nuclear Regulatory Commission.
John D. Kinneman,
Chief, Nuclear Materials Safety Branch 2, Division of Nuclear Materials Safety, Region I.

[FR Doc. 03-5161 Filed 3-4-03; 8:45 am]

BILLING CODE 7590-01-P